DEPARTMENT OF HOUSING AND URBAN DEVELOPMENT

[Docket No. FR-5483-N-01]

Notice of Proposed Information Collection: Comment Request; Ginnie Mae Mortgage-Backed Securities Guide 5500.3, Revision 1; (Forms and Electronic Data Submissions)

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comment Due Date: August 1, 2011.

ADDRESSES: Interested persons are invited to submit comments regarding this proposal. Comments should refer to the proposal by name and/or OMB Control Number and should be sent to: Colette Pollard, Q, Administrator Support Specialist, Department of Housing and Urban Development, 451 7th Street, SW., Room 4160, Washington, DC 20410; e-mail Colette.Pollard@hud.gov; telephone (202) 708-0306, ext. 3400. This is not a toll-free number. Copies of available documents submitted to OMB may be obtained from Ms. Pollard.

FOR FURTHER INFORMATION CONTACT: Debra Murphy, Ginnie Mae, 451 7th Street, SW, Room B-133, Washington, DC 20410; e-mail—Debra.L.Murphy@hud.gov; telephone—(202) 475-4923; fax—(202) 485-0225 (this is not a toll-free number); Victoria Vargas, Ginnie Mae, 451 7th Street, SW., Room B-133, Washington, DC 20410; e-mail—Victoria.Vargas@hud.gov; telephone—(202) 475-6752; fax—(202) 485-0225 (this is not a toll-free number); or the Ginnie Mae Web site at http://www.ginniemae.gov for other available information.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden hours of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Ginnie Mae Mortgage-Backed Securities Guide 5500.3, Revision 1 (Forms and Electronic Data Submissions).

OMB Control Number, if applicable: 2503-0033.

Description of the need for the information and proposed use:

Ginnie Mae's Mortgage-Backed Securities Guide 5500.3, Revision 1 (“Guide”) provides instructions and guidance to participants in the Ginnie Mae Mortgage-Backed Securities (“MBS”) programs (“Ginnie Mae I and Ginnie Mae II”). Under the Ginnie Mae I program, securities are backed by single-family or multifamily loans. Under the Ginnie Mae II program securities are only backed by single-family loans. Both the Ginnie Mae I and II MBS are modified pass-through securities. The Ginnie Mae II multiple Issuer MBS is structured so that small issuers, who do not meet the minimum number of loans and dollar amount requirements of the Ginnie Mae I MBS, can participate in the secondary mortgage market. In addition, the Ginnie Mae II MBS permits the securitization of adjustable rate mortgages (“ARMs”).

In order to provide more relevant disclosure information on outstanding Ginnie Mae securities, Ginnie Mae will be collecting additional information on the loans backing securities at issuance.

Included in the Guide are the appendices, forms, and documents necessary for Ginnie Mae to properly administer its MBS programs.

Agency form numbers, if applicable: 11700, 11701, 11702, 11704, 11705, 11706, 11707, 11708, 11709, 11709-A, 11710A, 1710-B, 1710-C, 11710D, 11710E, 11711-A, 11711-B, 11714, 11714-SN, 11720, 11715, 11732, 11785.

While most of the calculations are based on number of respondents multiplied by the frequency of response, there are several items whose calculations are based on volume.

Form | Appendix No. | Title | Number of respondents | Frequency of responses per year | Total annual responses | Hours per response | Total annual hours
11700 | II-1 | Letter of Transmittal | 210 | 4 | 840 | 0.033 | 27.7
11701 | I-1 | Application for Approval Ginnie Mae Mortgage-Backed Securities Issuer | 100 | 1 | 100 | 1 | 100.0
11702 | I-2 | Resolution of Board of Directors and Certificate of Authorized Signatures | 210 | 1 | 210 | 0.08 | 16.8
11704 | II-2 | Commitment to Guaranty Mortgage-Backed Securities | 210 | 4 | 840 | 0.033 | 27.7
11707 | III-1 | Master Servicing Agreement | 210 | 1 | 210 | 0.016 | 3.4
11709 | III-2 | Master Agreement for Servicer's Principal and Interest Custodial Account | 210 | 1 | 210 | 0.033 | 6.9
11715 | III-4 | Master Custodial Agreement | 210 | 1 | 210 | 0.033 | 6.9
11720 | III-3 | Master Agreement for Servicer's Escrow Custodial Account | 210 | 1 | 210 | 0.033 | 6.9
11732 | III-22 | Custodian's Certification for Construction Securities | 144 | 1 | 144 | 0.016 | 2.3
| IX-1 | Financial Statements and Audit Reports | 210 | 1 | 210 | 1 | 210.0
|  | Mortgage Bankers Financial Reporting Form | 350 | 4 | 1400 | 0.5 | 700.0
11709-A | I-6 | ACH Debit Authorization | 210 | 1 | 210 | 0.033 | 6.9
11710 D | VI-5 | Issuer's Monthly Summary Reports | 210 | 12 | 2520 | 0.033 | 83.2
11710A, 1710B, 1710C &11710E | VI-12 | Issuer's Monthly Accounting Report and Liquidation Schedule | 110 | 1 | 110 | 0.5 | 55.0
|  | Data Verification Form | 210 | 2 | 420 | 0.05 | 21.0
| III-13 | Electronic Data Interchange System Agreement | 40 | 1 | 40 | 0.166 | 6.6
| III-14 | Enrollment Administrator Signatories for Issuers and Document Custodians | 54 | 1 | 54 | 2 | 108.0
| I-4 | Cross Default Agreement | 10 | 1 | 10 | 0.05 | 0.5
| VI-18 | WHFIT Reporting | 210 | 4 | 840 | 0.25 | 210.0
| VI-19 | Monthly Pool and Loan Level Report (RFS) | 210 | 12 | 2520 | 4.3 | 10836.0
The burden for the items listed below is based on volume and/or number of requests.
11705 | III-6 | Schedule of Subscribers and Ginnie Mae Guaranty Agreement | 210 | 12 | 24800 | 0.0075 | 186.0
11706 | III-7 | Schedule of Pooled Mortgages | 210 | 12 | 24800 | 0.0075 | 186.0
11708 | V-5 | Document Release Request | 210 | 1 | 374 | 0.05 | 18.7
| XI-6, XI-8, XI-9 | Soldiers' and Sailors' Quarterly Reimbursement Request and SSCRA Loan Eligibility Information | 32 | 4 | 8000 | 0.033 | 1056.0
11711A and 11711B | III-5 | Release of Security Interest and Certification and Agreement | 210 | 1 | 24800 | 0.005 | 124.0
11714 and 11714SN | VI-10, VI-11 | Issuer's Monthly Remittance Advice and Issuer's Monthly Serial Note Remittance Advice | 210 | 12 | 56500 | 0.016 | 10848.0
| VI-2 | Letter for Loan Repurchase | 210 | 12 | 420 | 0.033 | 13.9
| VII-1 | Collection of Remaining Principal Balances | 210 | 12 | 344000 | 0.0125 | 51600.0
| III-21 | Certification Requirements for the Pooling of Multifamily Mature Loan Program | 11 | 1 | 11 | 0.05 | 0.6
| VI-9 | Request for Reimbursement of Mortgage Insurance Claim Costs for Multifamily Loans | 56 | 1 | 56 | 0.25 | 14.0
| VIII-3 | Assignment Agreements | 63 | 1 | 63 | 0.13 | 8.2
| III-9 | Authorization to Accept Facsimile Signed Correction Request Forms | 210 | 12 | 128 | 0.016 | 2.0
Total |  |  |  | Varies | 495,260 | Varies | 76,493

Authority: Section 3506 of the Paperwork Reduction Act of 1995, 44 U.S.C. Chapter 35, as amended.

Dated: May 25, 2011.
Mary K. Kinney,
Executive Vice President, Government National Mortgage Association.

[FR Doc. 2011-13595 Filed 5-31-11; 8:45 am]

BILLING CODE 4210-67-P